DEPARTMENT OF TRANSPORTATION

Federal Aviation Administration

Environmental Impact Statement: Juneau International Airport, Juneau AK

AGENCY: Federal Aviation Administration (FAA), DOT.

ACTION: Supplemental Notice of Intent.

SUMMARY: The Federal Aviation Administration announces incorporation of a new major proposed action into the Environmental Impact Statement (EIS) assessing implementation of projects proposed at the Juneau International Airport.

RESPONSIBLE OFFICIAL: Patricia A. Sullivan, Environmental Specialist, Federal Aviation Administration, Alaskan Region, Airports Division, 222 W. 7th Avenue, #14, Anchorage, AK 99513.

WRITTEN COMMENTS: Ken Wallace, Project Manager, SWCA, Inc., 230 South 500 East, Suite 380, Salt Lake City, UT 84102. E-mail: kwallace@swca.com.

FOR FURTHER INFORMATION CONTACT: Cathryn Collis, Compliance and Process Coordinator, SWCA, 230 South 500 East, Suite 380, Salt Lake City, UT 84102. Phone (801) 322-4307. E-mail: ccollis@swca.com

SUPPLEMENTARY INFORMATION: The Federal Aviation Administration published a Notice of Intent on June 1, 2001 to prepare and consider an EIS for implementation of proposed projects at the Juneau International Airport. Major projects proposed to be assessed in the EIS include: creation of additional Runway Safety Area (RSA) centered about the runway that is 500 feet wide by the length of the runway plus 1,000 feet beyond each runway end; installation of a Medium Approach Lighting System with Rails (MALSR) to improve the approach to Runway 26; construction of a Snow Removal Equipment Building to provide needed storage space for the snow removal fleet; and construction of additional Aviation Development Areas to provide adequate facilities to accommodate the growing demand and tourism needs of helicopters and fixed wing aircraft. A supplemental NOI was subsequently published on August 20, 2001, extending the public scoping comment period through September 30, 2001, and announced that the EIS would also evaluate a proposed new fuel tank farm access road.

Juneau International Airport has identified a number of habitat modification proposals and wildlife management activities to reduce and control wildlife hazards to aircraft. FAA has reviewed these actions and determined that the pending Wildlife Hazard Management Plan should be evaluated as a major proposed action in the EIS. FAA will continue to accept written comments concerning the scope of the EIS through September 30, 2001. Comments may be submitted in writing to the address identified in FOR FURTHER INFORMATION CONTACT or through the comment submittal form found on the project web site at www.jnu-eis.org. An additional public scoping meeting will be held in Juneau on September 18, 2001 at the Vocational Training and Resource Center, 3239 Hospital Drive, Juneau, Alaska from 5:00 pm to 9:00 pm.

Issued in Anchorage, Alaska on August 21, 2001.
David S. Stelling,
Acting Manager, Airports Division, AAL-600, Alaskan Region.

[FR Doc. 01-22049 Filed 8-30-01; 8:45 am]

BILLING CODE 4910-13-M